DEPARTMENT OF LABOR

Employment and Training Administration

[TA-W-61,233]

Sara Lee, also known as Hanesbrands, Rockingham, NC; Notice of Termination of Investigation

Pursuant to Section 221 of the Trade Act of 1974, as amended, an investigation was initiated on April 3, 2007 in response to a petition filed on behalf of workers of Sara Lee, also known as Hanesbrands, Rockingham, North Carolina.

The petitioning group of workers is covered by a duplicate petition (TA-W-61,117) instituted on March 15, 2007 that is the subject of an ongoing investigation for which a determination has not yet been issued. Further investigation in this case would duplicate efforts; therefore the investigation under this petition has been terminated.

Signed at Washington, DC, this 19th day of April, 2007.
Richard Church,
Certifying Officer, Division of Trade Adjustment Assistance.

[FR Doc. E7-7968 Filed 4-25-07; 8:45 am]

BILLING CODE 4510-FN-P